DEPARTMENT OF JUSTICE

Notice of Lodging of Proposed Consent Decree Under the Comprehensive Environmental Response, Compensation and Liability Act

On May 23, 2022, the Department of Justice lodged a proposed consent decree with the United States District Court for the District of Montana entitled United States and the State of Delaware v. Burlington Northern Santa Fe Railway Co. and Montana Rail Link, Inc., Civil Action No. 6:22-cv-00035-SEH.

The United States filed this lawsuit under the Comprehensive Environmental Response, Compensation and Liability Act (CERCLA). The complaint alleges that the defendants are liable in connection with the releases of hazardous substances at the East Helena Superfund Site (the “Site) in East Helena, Montana. Under the consent decree, the defendants will expend an estimated $852,200 to remediate an active railyard within the Site boundaries. They will also reimburse EPA's costs of overseeing their work. In return, the United States and Delaware agree not to sue the defendants under sections 106 and 107 of CERCLA.

The publication of this notice opens a period for public comment on the consent decree. Comments should be addressed to the Assistant Attorney General, Environment and Natural Resources Division, and should refer to United States v. Burlington Northern Santa Fe Railway Co. and Montana Rail Link, Inc., D.J. Ref. No. 90-11-3-08633/7. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree without the exhibits upon written request and payment of reproduction costs. Please mail your request and payment to: Consent Decree Library, U.S. DOJ—ENRD, P.O. Box 7611, Washington, DC 20044-7611.

Please enclose a check or money order for $10.50 (25 cents per page reproduction cost) payable to the United States Treasury.

Jeffrey Sands,
Assistant Section Chief, Environmental Enforcement Section, Environment and Natural Resources Division.

[FR Doc. 2022-11489 Filed 5-26-22; 8:45 am]

BILLING CODE 4410-15-P